DEPARTMENT OF LABOR

Employment and Training Administration

[TA-W-60,292]

Forest City Technologies, Inc., Wixom, MI; Notice of Termination of Investigation

Pursuant to Section 221 of the Trade Act of 1974, an investigation was initiated on October 25, 2006 in response to a petition filed on behalf of workers of Forest City Technologies Inc., Wixom, Michigan.

One of the three petitioning workers was separated more than one year prior to the October 18, 2006 date of the petition. The petition has therefore been deemed invalid. Consequently, the investigation has been terminated.

Signed in Washington, DC, this 27th day of October 2006.
Richard Church,
Certifying Officer, Division of Trade Adjustment Assistance.

[FR Doc. E6-18641 Filed 11-3-06; 8:45 am]

BILLING CODE 4510-30-P